DEPARTMENT OF AGRICULTURE

Rural Housing Service

7 CFR Part 3555

[Docket No. RHS-24-SFH-0001]

RIN 0575-AD28

Single Family Housing Guaranteed Loan Program Changes Related to Special Servicing Options; Correction

AGENCY: Rural Housing Service, U.S. Department of Agriculture (USDA).

ACTION: Final rule; correction.

SUMMARY: The Rural Housing Service (RHS or Agency), a Rural Development (RD) agency of USDA, published a final rule on August 15, 2024, to amend the current regulations regarding Special Servicing Options and adjust the Mortgage Recovery Advance (MRA) process. The February 11, 2025, effective date of that final rule is being deferred to April 14, 2025.

DATES: Effective February 11, 2025.

FOR FURTHER INFORMATION CONTACT: Ticia Weare, Finance and Loan Analyst, Single Family Housing Guaranteed Loan Division, Rural Development, U.S. Department of Agriculture, STOP 0784, South Agriculture Building, 1400 Independence Avenue SW, Washington, DC 20250-0784. Telephone: (314) 679-6919; or email: ticia.weare@usda.gov.

SUPPLEMENTARY INFORMATION:

Correction

In FR Doc. 2024-18291 (Docket No. RHS-24-SFH-0001) appearing at 89 FR 66189 in the Federal Register of August 15, 2024, in the first column on page 66189, correct the DATES caption to read:

DATES: Effective April 14, 2025.

Christine Mechtly,
Acting Administrator, Rural Housing Service.

[FR Doc. 2025-02551 Filed 2-10-25; 8:45 am]

BILLING CODE 3410-XV-P